DEPARTMENT OF HOMELAND SECURITY

Coast Guard

33 CFR Part 165

[CGD09-04-149]

RIN 1625-AA00

Safety Zone; Chicago River Main Branch, Chicago, IL

AGENCY: Coast Guard, DHS.

ACTION: Temporary final rule.

SUMMARY: The Coast Guard is establishing a temporary safety zone for the demolition of the Chicago Sun-Times Building. This safety zone is necessary to protect vessels and persons from potential falling debris during the demolition phase of the Chicago Sun-Times Building along the Chicago River Main Branch. The safety zone is intended to restrict vessels from a portion of the Chicago River Main Branch, Chicago, Illinois.

DATES: This rule is effective from December 20, 2004 through March 19, 2005.

ADDRESSES: Documents indicated in this preamble as being available in the docket, are part of docket [CGD09-04-149] and are available for inspection or copying at Marine Safety Office Chicago, 215 W. 83rd Street, Suite D, Burr Ridge, Illinois 60527, between 7:30 a.m. and 4 p.m., Monday through Friday, except Federal holidays.

FOR FURTHER INFORMATION CONTACT: LTJG Cameron Land, U.S. Coast Guard Marine Safety Office Chicago, at (630) 986-2155.

SUPPLEMENTARY INFORMATION:

Regulatory Information

We did not publish a notice of proposed rulemaking (NPRM) for this regulation. Under 5 U.S.C. 553(b)(B), the Coast Guard finds that good cause exists for not publishing an NPRM. Notification of this event and the permit application was not received in time to publish an NPRM followed by a final rule before the effective date. Under 5 U.S.C. 553(d)(3), the Coast Guard finds that good cause exists for making this rule effective less than 30 days after publication in the Federal Register. Delaying this rule would be contrary to the public interest of ensuring the safety of persons and vessels during this event and immediate action is necessary to prevent possible loss of life or property. During the enforcement of this safety zone, comments will be accepted and reviewed and may result in a modification to the rule.

Background and Purpose

This temporary safety zone is necessary to ensure the safety of vessels and persons during the planned demolition of the Chicago Sun-Times Building. During the demolition phase, it is possible for falling debris to fall into the Chicago River. The Captain of the Port Chicago has determined that demolition in close proximity of the waterway may pose a significant risk and hazard to persons and vessels. Establishing a safety zone to control vessel movement around the location of the Chicago Sun-Times Building will help ensure the safety and reduce the risks of persons and vessels during the demolition phase.

Discussion of Rule

The safety zone will be established on the north side of the Chicago River Main Branch, from the east side of the Wabash Ave Bridge at position 41°53.296′ N and 087°37.611′ W extending 515 feet along the shoreline to the east side of the Chicago Sun-Times Building, at position 41°53.347′ N and 087°37.539′ W extending 40 feet perpendicular to the shoreline to position 41°53.342′ N and 087°37.534′ W extending parallel to the shoreline to position 41°53.290′ N and 087°37.607′ W then back to the point of origin.

All persons shall comply with the instructions of the Coast Guard Captain of the Port or the designated on scene representative. Entry into, transiting, or anchoring within the safety zone is prohibited unless authorized by the Captain of the Port Chicago, or his designated on scene representative.

Regulatory Information

This rule is not a “significant regulatory action” under section 3(f) of Executive Order 12866, Regulatory Planning and Review, and does not require an assessment of potential costs and benefits under section 6(a)(3) of that Order. It is not “significant” under the regulatory policies and procedures of the Department of Homeland Security (DHS).

We expect the economic impact of this rule to be so minimal that a full Regulatory Evaluation under the regulatory policies and procedures of DHS is unnecessary.

This determination is based on the consideration that the zone is an area where the Coast Guard expects insignificant adverse impact to mariners from the zones' activation.

Small Entities

Under the Regulatory Flexibility Act (5 U.S.C. 601-612), we have considered whether this rule would have a significant impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities: the owners or operators of vessels intending to transit or anchor in a portion of the Chicago River Main Branch from December 20, 2004 through March 19, 2005. This regulation will not have a significant economic impact for the following reasons. The reduction in width of the navigation channel by 40 feet will still allow commercial and recreation vessels to transit around the area. The designated area is being established to allow barges to be moored against the seawall to catch falling debris and to protect persons and vessels utilizing the waterway. The Coast Guard will give notice to the public via a Broadcast to Mariners that the regulation is in effect.

Assistance for Small Entities

Under section 213(a) of the Small Business Regulatory Enforcement Fairness Act of 1996 (Public Law 104-121), we offered to assist small entities in understanding the rule so that they could better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule does not result in such expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedure; and related management system practices) that are developed or adopted by voluntary consensus standards bodies.

This rule does not use technical standards. Therefore, we did not consider the use of voluntary consensus standards.

Environment

We have analyzed this rule under Commandant Instruction M16475.1D, which guides the Coast Guard in complying with the National Environmental Policy Act of 1969 (NEPA)(42 U.S.C. 4321-4370f), and have concluded that there are no factors in this case that would limit the use of a categorical exclusion under section 2.B.2 of the instruction. Therefore, this rule is categorically excluded, under figure 2-1, paragraph (34)(g) of the Commandant Instruction M16475.1D from further environmental documentation.

An “Environmental Analysis checklist” and “Categorical Exclusion Determination” are required under the Instruction and the results of these determinations will be provided in the docket where indicated under ADDRESSES. This action is not expected to result in any significant adverse environmental impact as described in the National Environmental Protection Act.

List of Subjects in 33 CFR Part 165

Harbors, Marine safety, Navigation (water), Reporting and recordkeeping requirements, Security measures, Waterways.

For the reasons set out in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. A new temporary § 165.T09-149 is added to read as follows:

§ 165.T09-149 Safety Zone; Chicago River Main Branch, Chicago, IL.

(a) Location. The safety zone will be established on the north side of the Chicago River Main Branch, from the east side of the Wabash Ave Bridge at position 41°53.296′ N and 087°37.611′ W extending 515 feet along the shoreline to the east side of the Chicago Sun-Times Building, at position 41°53.347′ N and 087°37.539′ W extending 40 feet perpendicular to the shoreline to position 41°53.342′ N and 087°37.534′ W extending parallel to the shoreline to position 41°53.290′ N and 087°37.607′ W then back to the point of origin.

(b) Effective period. This regulation is effective from December 20, 2004 through March 19, 2005.

(c) Regulations. In accordance with the general regulations in 165.23 of this part, entry into this zone is prohibited unless authorized by the Coast Guard Captain of the Port, Chicago, or the designated on scene representative.

Dated: December 20, 2004.
T. W. Carter,
Captain, U.S. Coast Guard, Captain of the Port Chicago.

[FR Doc. 04-28550 Filed 12-29-04; 8:45 am]

BILLING CODE 4910-15-P